Title 3—

The President

Proclamation 10517 of January 31, 2023

American Heart Month, 2023

By the President of the United States of America

A Proclamation

During American Heart Month, we recommit to supporting the more than 120 million Americans living with a cardiovascular condition; advancing groundbreaking and lifesaving research; and expanding access to affordable health care, prescription drugs, and healthy lifestyles.

Heart disease has long been the leading cause of death in the United States, claiming nearly 700,000 lives a year. Nearly half of all American adults have at least one major risk factor for cardiovascular disease. From heart attacks and strokes to high blood pressure, the threat of cardiovascular disease touches almost every family in our Nation. But while heart conditions can be costly and deadly, they are also often preventable with access to affordable health care, advancements in technology, and lifestyle changes.

There is so much we can do to keep advancing our fight against heart disease. Last March, I was proud to launch a major biomedical innovation initiative, the Advanced Research Projects Agency for Health, to drive breakthroughs in preventing, detecting, and treating life-threatening conditions like Alzheimer's, diabetes, and cancers—progress that can lead to critical advancements on a range of cardiovascular diseases as well. Meanwhile, to help more families afford existing treatments, the Inflation Reduction Act will cap out-of-pocket prescription drug costs for seniors on Medicare at $2,000 a year, no matter the medication—including those that work to prevent blood clots, lower blood pressure or cholesterol, manage diabetes, and otherwise promote heart health. That landmark law will also bring down the cost of health coverage under the Affordable Care Act and allow more Americans to gain coverage. This will help more people access free preventative services like blood pressure and obesity screenings and afford quality, comprehensive care if diagnosed.

My Administration is working to help more people lead heart-healthy lifestyles as well. At last fall's White House Conference on Hunger, Nutrition, and Health—the first in over 50 years—we released a national strategy to reduce diet-related diseases. This includes providing healthy, free meals to millions more school kids; boosting Medicaid and Medicare coverage for services like nutrition and obesity counseling; expanding incentives for fruits and vegetables in the Supplemental Nutrition Assistance Program; and increasing access to parks and exercise, especially in underserved communities. To further reduce smoking, a major cause of heart disease, the Food and Drug Administration has also proposed a rule to ban menthol-flavored cigarettes and flavored cigars, which are popular among first-time smokers.

As treatments and access to care improve, we can each help to raise awareness of the importance of a healthy heart. Exercising regularly, eating well, managing weight, and avoiding smoking or vaping are proven to reduce the risk of cardiovascular disease. And we can save lives by each learning the warning signs of a heart attack or stroke and consulting a doctor if we have risk factors or symptoms.

We encourage all Americans to help bring attention to heart health by wearing red on National Wear Red Day, held on Friday, February 3rd. This month and always, we honor the memories of those we have lost to heart disease, and we celebrate the courage of the countless loved ones who are living strong, full lives despite having heart conditions. I am committed to doing all I can to improve their futures.

To learn more about heart health, please talk to your health care provider or visit CDC.gov/heartdisease.

In acknowledgement of the importance of the ongoing fight against cardiovascular disease, the Congress, by Joint Resolution approved December 30, 1963, as amended (36 U.S.C. 101), has requested that the President issue an annual proclamation designating February as “American Heart Month.”

NOW, THEREFORE, I, JOSEPH R. BIDEN JR., President of the United States of America, do hereby proclaim February 2023 as American Heart Month, and I invite all Americans to participate in National Wear Red Day on February 3, 2023. I also invite the Governors of the States, the Commonwealth of Puerto Rico, officials of other areas subject to the jurisdiction of the United States, and the American people to join me in recognizing and reaffirming our commitment to fighting cardiovascular disease and extending the promise of a long and healthy life across this country.

IN WITNESS WHEREOF, I have hereunto set my hand this thirty-first day of January, in the year of our Lord two thousand twenty-three, and of the Independence of the United States of America the two hundred and forty-seventh.

[FR Doc. 2023-02430

Filed 2-2-23; 8:45 am]

Billing code 3395-F3-P